DEPARTMENT OF ENERGY

Federal Energy Regulatory Commission

[Docket No. EG05-21-000, et al.]

Caprock Wind LLC, et al.; Electric Rate and Corporate Filings

November 4, 2004.

The following filings have been made with the Commission. The filings are listed in ascending order within each docket classification.

1. Caprock Wind LLC

[Docket No. EG05-21-000]

On November 1, 2004, Caprock Wind LLC (Caprock), a Delaware limited liability company with its principal place of business in San Francisco, California, filed with the Federal Energy Regulatory Commission an application for determination of exempt wholesale generator status pursuant to Part 365 of the Commission's regulations.

Caprock states that it intends to construct and operate an 80 MW wind powered generation facility located in Quay County, New Mexico ( Facility) and to generate and sell therefrom wholesale electric power. Caprock further states that approximately 60 MW of the 80 MW Facility is expected to begin commercial operations in December 2004.

Comment Date: 5 p.m. Eastern Time on November 22, 2004.

2. Potomac Edison Company

[Docket No. EL03-55-005]

Take notice that on October 28, 2004, Potomac Edison Company d/b/a/ Allegheny Power submitted a refund report in compliance with the Commission's Order on Remand issued September 28, 2004 in Docket No. EL03-55-003, 108 FERC ¶61,316 (2004).

Comment Date: 5 p.m. Eastern Time on November 18, 2004.

3. Coral Power, L.L.C.; Constellation Power Source, Inc.

[Docket No. ER96-25-026 and ER97-2261-018]

Take notice that on October 29, 2004, Coral Power, L.L.C. (Coral Power) and Constellation Power Source, Inc. (Constellation) submitted a filing in response to the request for additional information pursuant to the Commission's deficiency letter issued on October 4, 2004 in Docket Nos. ER96-25-025 and ER97-2261-016.

Coral Power and Constellation state that copies of the filing were served on parties on the official service list in the above-captioned proceeding.

Comment Date: 5 p.m. Eastern Time on November 19, 2004.

4. Lake Road Generating Company, L.P.

[Docket No. ER99-1714-003]

Take notice that on October 29, 2004, Lake Road Generating Company, L.P. (Lake Road Gen) submitted for filing a notice of change in status in connection with the transfer of the ownership interests that were held indirectly by National Energy & Gas Transmission, Inc. in Lake Road Gen, which owns an approximately 750 MW (net) combined cycle generating facility located near Killingly, CT, to the creditors of Lake Road Gen.

Comment Date: 5 p.m. Eastern Time on November 19, 2004.

5. ISO New England Inc.

[Docket No. ER01-316-014]

Take notice that on October 29, 2004, ISO New England Inc. (ISO) submitted for filing its Index of Customers for the third quarter of 2004 for its Tariff for Transmission Dispatch and Power Administration Services in compliance with Commission Order No. 614.

Comment Date: 5 p.m. Eastern Time on November 19, 2004.

6. Midwest Independent Transmission System Operator, Inc.

[Docket Nos. ER03-86-006 and ER03-83-005]

Take notice that on October 28, 2004, the Midwest Independent Transmission System Operator, Inc. (Midwest ISO), submitted proposed revisions to the Midwest ISO Open Access Transmission Tariff (OATT), which are intended to remove TRANSLink references from the OATT based on the Commission's Letter Orders issued September 22, 2004 in Docket Nos. ER03-83-004 and ER003-86-003. The Midwest ISO requests an effective date of October 30, 2004.

The Midwest ISO states that it has electronically served a copy of this filing, with attachments, upon all Midwest ISO Members, Member representatives of Transmission Owners and Non-Transmission Owners, the Midwest ISO Advisory Committee participants, as well as all state commissions within the region. In addition, the Midwest ISO also states that the filing has been electronically posted on the Midwest ISO's Web site at http://www.midwestiso.org under the heading “Filings to FERC” for other interested parties in this matter. The Midwest ISO further states that it will provide hard copies to any interested parties upon request.

Comment Date: 5 p.m. Eastern Time on November 19, 2004.

7. New York Independent System Operator, Inc.

[Docket No. ER04-1144-001]

Take notice that on October 29, 2004, the New York Independent System Operator, Inc. (NYISO) tendered for filing an amendment to its August 20, 2004 filing in Docket No. ER04-1144-001, which proposed tariff amendments to establish a comprehensive planning process for reliability needs for New York. NYISO states that the amendment to the filing provides information responsive to the Commission's October 19, 2004 deficiency letter in the same proceeding.

The NYISO has served a copy of this filing on the service list maintained by the Commission in this proceeding. Additionally, the NYISO has electronically served a copy of this filing on the official representative of each of its customers, on each participant in its stakeholder committees, and on the New York State Public Service Commission. The NYISO has also served the electric utility regulatory agencies of New Jersey and Pennsylvania.

Comment Date: 5 p.m. Eastern Time on November 19, 2004.

8. Southwestern Public Service Company

[Docket No. ER05-88-000]

Take notice that on October 29, 2004, Southwestern Public Service Company (SPS) tendered for filing, proposed changes in the Power Sales Agreements applicable to the following wholesale full requirements customers: Central Valley Electric Cooperative, Inc., Farmers' Electric Cooperative, Inc. of New Mexico, Lea County Electric Cooperative, Inc. and Roosevelt County Electric Cooperative, Inc. (the Customers). SPS states that it is making the filing to modify the terms under which SPS delivers to the Customers power allocations the Customers receive from the Western Area Power Administration. SPS requests an effective date of October 1, 2004.

SPS states that it has served a copy of the complete filing on each of the affected customers. SPS also states that it has mailed a complete copy of the filing to the Public Utility Commission of Texas and to the New Mexico Public Regulation Commission. Finally, SPS states that copies of the filing are available for public inspection in the offices of SPS in Amarillo, Texas.

Comment Date: 5 p.m. Eastern Time on November 19, 2004.

9. Virginia Electric and Power Company

[Docket No. ER05-95-000]

Take notice that on October 29, 2004, Virginia Electric and Power Company (Dominion Virginia Power) tendered for filing a notice of termination of power supply contract designated as First Revised Rate Schedule FERC No. 94. Dominion Virginia Power requests an effective date of January 1, 2005.

Dominion Virginia Power states that copies of the filing were served upon Central Virginia Electric Cooperative, the Virginia State Corporation Commission, and the North Carolina Utilities Commission.

Comment Date: 5 p.m. Eastern Time on November 19, 2004.

10. Smarr EMC

[Docket No. ER05-96-000]

Take notice that on October 29, 2004, Smarr EMC (Smarr) tendered for filing with the Commission, pursuant to 18 CFR 35.13, revisions to Smarr's Second Revised Rate Schedule FERC No. 1. Smarr requests an effective date of effective January 1, 2005.

Smarr states that copies of this filing have been mailed to each of Smarr's Member-Owner/Purchasers.

Comment Date: 5 p.m. Eastern Time on November 19, 2004.

11. Wisconsin Public Service Corporation

[Docket No. ER05-97-000]

Take notice that, on October 29, 2004, Wisconsin Public Service Corporation (WPSC) tendered for filing three revised service agreements between WPSC and Washington Island Electric Cooperative (Washington Island), WPSC and Manitowoc Public Utilities (Manitowoc) and WPSC and Upper Peninsula Power Company (UPPCo) (Revised Service Agreements). WPSC states that the Revised Service Agreements update the Customers' demand nominations and are being filed under WPSC's FERC Electric Tariff, Fourth Revised Volume No. 1. WPSC requests an effective date of January 1, 2005.

WPSC states that a copy of the filing was served upon Washington Island, Manitowoc, UPPCo, the Public Service Commission of Wisconsin, and the Michigan Public Service Commission.

Comment Date: 5 p.m. Eastern Time on November 19, 2004.

12. Southern Company Services, Inc.

[Docket No. ER05-99-000]

Take notice that on October 29, 2004 Southern Company Services, Inc. submitted the annual informational schedules filing required under: (1) The Unit Power Sales Agreement dated July 20, 1988, between Southern Companies (i.e., Alabama Power Company, Georgia Power Company, Gulf Power Company, Mississippi Power Company, Savannah Electric and Power Company, and Southern Company Services, Inc.) and Florida Power & Light Company (FPL); (2) the Unit Power Sales Agreement dated August 17, 1988, between Southern Companies and Jacksonville Electric Authority (JEA); and (3) Unit Power Sales Agreement dated July 19, 1988 between Southern Companies and Florida Power Corporation (FPC).

Southern Companies states that copies of the material filed herewith have been sent to representatives of FPL, FPC and JEA.

Comment Date: 5 p.m. Eastern Time on November 19, 2004.

13. Alabama Power Company

[Docket No. ER05-100-000]

Take notice that on October 29, 2004 Alabama Power Company (APCo) submitted for filing proposed Amended and Restated Agreement for Partial Requirements Service and Complementary Services and the proposed Agreement for Transmission and Other Complementary Services between Alabama Power Company and the Alabama Municipal Electric Authority.

Comment Date: 5 p.m. Eastern Time on November 19, 2004.

14. Southern Company Services, Inc.

[Docket No. ER05-101-000]

Take notice that on October 28, 2004 Southern Company Services, Inc. (SCS), acting as agent for Georgia Power Company (Georgia Power), submitted for filing the annual informational filing regarding Georgia Power's provision of transmission services resulting from the sale of the electric generating facility known as Scherer Unit No. 4 to Florida Power and Light Company (FP&L) and Jacksonville Electric Authority (JEA).

SCS states that copies of the filed materials have been sent to representatives of FP&L and JEA.

Comment Date: 5 p.m. Eastern Time on November 19, 2004.

15. Mississippi Power Company

[Docket No. ER05-102-000]

Take notice that on October 29, 2004, Mississippi Power Company submitted an annual informational filing required under the Transmission Facilities Agreement between Gulf States Utilities Company and Mississippi Power Company.

Comment Date: 5 p.m. Eastern Time on November 19, 2004.

16. Southern Company Services, Inc.

[Docket No. ER05-103-000]

Take notice that on October 29, 2004 Southern Company Services, Inc. (Southern Company) submitted its annual informational filing under the Southern Company System Intercompany Interchange Contract, as amended and restated, between the Operating Companies of the Southern Company (Alabama Power Company, Georgia Power Company, Gulf Power Company, Mississippi Power Company, Savannah Electric and Power Company and Southern Power Company).

Southern Company states that copies of this informational filing have been furnished to representatives of each of the Operating Companies.

Comment Date: 5 p.m. Eastern Time on November 19, 2004.

17. PPL Electric Utilities Corporation

[Docket No. ER05-104-000]

Take notice that on October 29, 2004, PPL Electric Utilities Corporation (PPL Electric) filed on behalf of itself and Metropolitan Edison Corporation (Met-Ed) Second Revised Service Agreement No. 941 under PJM Interconnection, L.L.C., FERC Electric Tariff, Sixth Revised Volume No. 1. PPL Electric states that the Service Agreement No. 941 is an Interconnection Agreement between Met-Ed and PPL Electric and has been revised to include a Third Supplemental Agreement relating to the establishment of an additional point of interconnection. PPL Electric requests an effective date of September 29, 2004.

PPL Electric states that copies of the filing were served upon Met-Ed.

Comment Date: 5 p.m. Eastern Time on November 19, 2004.

18. Midwest Generation, LLC

[Docket No. ER05-105-000]

Take notice that on October 29, 2004, Midwest Generation, LLC (MWGen) submitted its Third Revised Sheet No. 1 under MWGen's FERC Electric Tariff, Original Volume No. 3, increasing its revenue requirement for Reactive Power Capability to reflect the return to operation of two of MWGen's generating units (Will County Units 1 and 2).

MWGen states that copies of the filing were served upon the Illinois Commerce Commission, Commonwealth Edison Company, and PJM Interconnection, L.L.C.

Comment Date: 5 p.m. Eastern Time on November 19, 2004.

19. PJM Interconnection, L.L.C.

[Docket No. ER05-106-000]

Take notice that on October 29, 2004, PJM Interconnection, L.L.C. (PJM) submitted the interim allocation of financial transmission rights for the zone of Duquesne Light Company, covering the period from its integration into PJM on January 1, 2005 until the end of PJM's current planning period on May 31, 2005. PJM requests an effective date of January 1, 2005.

PJM states that copies of the filing were served on all PJM members and the utility regulatory commissions in the PJM region.

Comment Date: 5 p.m. Eastern Time on November 19, 2004.

20. PJM Interconnection, L.L.C.

[Docket No. ER05-107-000]

Take notice that on October 29, 2004, PJM Interconnection, L.L.C. (PJM), tendered for filing an unexecuted agreement for network integration transmission service (Service Agreement) with Southern Indiana Gas and Electric Co. d/b/a Vectren Energy Delivery, Inc., Hoosier Energy Rural Electric Cooperative, Inc. and Southern Indiana Rural Electric Cooperative (collectively the Joint Operating Group). PJM states that it is filing the agreement because it is unexecuted and includes provisions not reflected in PJM's Open Access Transmission Tariff. PJM also states that the Service Agreement is meant to replace a previous agreement by which the Joint Operating Group took network integration transmission service under the open access transmission tariff of American Electric Power Service Corp., and is intended to maintain continuity of service. PJM requests an effective date of October 1, 2004.

PJM states that copies of this filing were served upon each member of the Joint operating Group as well as the affected state commission.

Comment Date: 5 p.m. Eastern Time on November 19, 2004.

21. Ameren Services Company

[Docket No. ER05-108-000]

Take notice that on October 29, 2004, Ameren Services Company (Ameren), on behalf of Illinois Power Company d/b/a AmerenIP (AmerenIP), submitted a revised Schedule 4R, Illinois Retail Load Energy Imbalance Service, to the Open Access Transmission Tariff of Illinois Power Company, Illinois Power Company FERC Electric Tariff, Fourth Revised Volume No. 8. Ameren states that the filing provides that the imbalance service that AmerenIP offers to retail electric suppliers in Illinois under Schedule 4R will, effective December 1, 2004, be identical in all material respects, as to rate design, terms and conditions, to the retail imbalance service offered under Schedule 4A, Illinois Retail Energy Imbalance Service, of the OATT of the Ameren Operating Companies (Central Illinois Public Service Company dba AmerenCIPS and Union Electric Company dba AmerenUE).

Ameren states that it has served a copy of the complete filing on all current customers under Schedule 4R and on the Illinois Commerce Commission and a copy of the transmittal letter on other IP OATT customers providing them with notice of the filing. Ameren also states that it has posted a copy of the filing on the Midwest ISO's website at www.midwestiso.org under the heading “Filings to FERC” and has made a copy available for public inspection in its main offices in St. Louis, Missouri.

Comment Date: 5 p.m. Eastern Time on November 19, 2004.

22. Southwest Power Pool, Inc.

[Docket No. ER05-109-000]

Take notice that on October 29, 2004, Southwest Power Pool, Inc. (SPP) submitted for filing revised pages to its Open Access Transmission Tariff intended to provide for an Aggregate Transmission Service Study process. SPP states that this process will be used to evaluate long-term transmission service requests in order to provide the necessary available transmission capacity to accommodate all such requests at the minimum total cost. SPP requests an effective date of February 1, 2005.

SPP states that it has served a copy of its transmittal letter on each of its Members and Customers. SPP also states that a complete copy of this filing will be posted on the SPP Web site http://www.spp.org, and is also being served on all affected state commissions.

Comment Date: 5 p.m. Eastern Time on November 19, 2004.

23. Wisconsin Electric Power Company

[Docket No. ER05-110-000]

Take notice that on October 29, 2004, Wisconsin Electric Power Company (Wisconsin Electric) tendered for filing a fully executed Master Power Purchase and Sale Agreement (Master Agreement), designated as FERC Electric Rate Schedule No. 114, between Wisconsin Electric and Exelon Generation Company, LLC. (ExGen). Wisconsin Electric requests that this Master Agreement become effective immediately.

Wisconsin Electric states that copies of this filing were served on the Public Service Commission of Wisconsin, the Michigan Public Service Commission and ExGen.

Comment Date: 5 p.m. Eastern Time on November 19, 2004.

24. TransCanada Hydro Northeast Inc.

[Docket No. ER05-111-000]

Take notice that on October 29, 2004, TransCanada Hydro Northeast Inc. (TC Hydro NE) filed with the Commission an application requesting that the Commission accept for filing a Market-Based Tariff for TC Hydro NE, and otherwise grant TC Hydro NE the authority to sell energy and capacity and ancillary services in wholesale transactions at negotiated, market-based rates pursuant to Part 35 of the Commission's regulations. TC Hydro NE requests an effective date of November 29, 2004.

Comment Date: 5 p.m. Eastern Time on November 19, 2004.

25. Commonwealth Edison Company

[Docket No. ER05-112-000]

Take notice that on October 29, 2004, Commonwealth Edison Company (ComEd) filed a notice of termination of the wholesale power sales agreements (PSAs) on file with the Commission in Docket No. ER00-933-000 between ComEd and Entergy-Koch Trading, LP under ComEd's wholesale power sales tariffs, designated as Service Agreement No. 149 under Commonwealth Edison Company FERC Electric Tariff No. 2, and Service Agreement No. 6 under Commonwealth Edison Company FERC Electric Tariff No. 6. The PSAs terminate effective December 31, 2004.

Comment Date: 5 p.m. Eastern Time on November 19, 2004.

26. Pacific Gas and Electric Company

[Docket No. ER05-113-000]

Take notice that on October 29, 2004, Pacific Gas and Electric Company (PG&E) tendered for filing an annual rate update, including rate schedule sheet revisions, to become effective January 1, 2005, to its Reliability Must-Run Service Agreements (RMR Agreements) with the California Independent System Operator Corporation (ISO) for Helms Power Plant (PG&E First Revised Rate Schedule FERC No. 207), Humboldt Power Plant (PG&E First Revised Rate Schedule FERC No. 208), Hunters Point Power Plant (PG&E First Revised Rate Schedule FERC No. 209), San Joaquin Power Plant (PG&E First Revised Rate Schedule FERC No. 211) and Kings River Watershed (PG&E Rate Schedule FERC No. 226).

PG&E states that copies of the filing have been served upon the ISO, the California Electricity Oversight Board and the California Public Utilities Commission.

Comment Date: 5 p.m. Eastern Time on November 19, 2004.

27. Duke Energy Oakland, LLC

[Docket No. ER05-115-000]

Take notice that on October 29, 2004, Duke Energy Oakland, LLC (DEO) pursuant to 16 USC 824d and Part 35.13 of the Commission's Regulations, submitted for filing revisions to certain Reliability Must-Run Rate Schedules in its Reliability Must Run Agreement (RMR) with the California Independent System Operator Corporation. DEO further tendered for filing an informational filing detailing and supporting the proposed changes to its Annual Fixed Revenue Requirements under its RMR Agreement.

DEO states that copies of the filing were served upon the California ISO, Pacific Gas and Electric Company, the Public Utilities Commission of the State of California, and the Electricity Oversight Board of the State of California.

Comment Date: 5 p.m. Eastern Time on November 19, 2004.

28. Wabash Valley Power Association, Inc.

[Docket No. ER05-117-000]

Take notice that on October 29, 2004, Wabash Valley Power Association, Inc. (Wabash Valley) submitted for filing an Agreement for Electric Service between Wabash Valley and one of its Members, Carroll County REMC, implementing service under Schedule EDR-5 of Wabash Valley's FERC Electric Tariff, Original Volume No. 1 Wabash Valley requests an effective date of January 1, 2005.

Wabash Valley states that copies of the filing were served upon each of Wabash Valley's Members and the public utility commissions in Illinois, Indiana, Michigan and Ohio.

Comment Date: 5 p.m. Eastern Time on November 19, 2004.

29. New York Independent System Operator, Inc.

[Docket No. ER05-119-000]

Take notice that on October 29, 2004, the New York System Operator, Inc. (NYISO) tendered for filing proposed revisions to its Market Administration and Control Area Services Tariff (Services Tariff) designed to extend the current methodology and rate used to calculate payments for Voltage Support Service through the end of calendar year 2005. The NYISO requests an effective date of January 1, 2005.

The NYISO states that it has electronically served a copy of this filing on the official representative of each of its customers, on each participant in its stakeholder committees, and on the New York State Public Service Commission. The NYISO states that it has also served the state regulatory commissions of New Jersey and Pennsylvania.

Comment Date: 5 p.m. Eastern Time on November 19, 2004.

30. Conectiv Energy Supply, Inc.

[Docket No. ER05-121-000]

Take notice that, on October 29, 2004, Conectiv Energy Supply, Inc. (CESI) submitted for filing a Service Agreement to its Market Based Rate Tariff a contract under which CESI will provide full requirements service to Delmarva Power & Light Company's retail residential load in Virginia. CESI requests an effective date of January 1, 2005.

CESI states that this filing was served on the Virginia State Corporation Commission.

Comment Date: 5 p.m. Eastern Time on November 19, 2004.

31. Midwest Independent Transmission System Operator, Inc.

[Docket No. ER05-122-000]

Take notice that on October 29, 2004, the Midwest Independent Transmission System Operator, Inc. (Midwest ISO) and the Midwest ISO Transmission Owners, submitted proposed revisions to Attachment O (Rate Formulae) of the Midwest ISO Open Access Transmission Tariff, which revisions are intended to correct an inconsistency with respect to the treatment of long-term interest as described in the Commission Uniform System of Accounts. Midwest ISO and Midwest ISO Transmission Owners have requested an effective date of January 1, 2005.

The Midwest ISO states that it has electronically served a copy of the filing, with attachments, on all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter. The Midwest ISO states that it will also provide hard copies to any interested parties upon request.

Comment Date: 5 p.m. Eastern Time on November 19, 2004.

32. Duke Energy Vermillion, LLC

[Docket No. ER05-123-000]

Take notice that on October 29, 2004, Duke Energy Vermillion, LLC (Duke Vermillion) tendered for filing its proposed tariff and supporting cost data for its Monthly Revenue Requirement for Reactive Supply and Voltage Control from Generation Sources Service provided to the Midwest Independent Transmission System Operator, Inc. (Midwest ISO). Duke Vermillion requests an effective date of November 1, 2004.

Duke Vermillion has served a copy of the filing on the Midwest ISO.

Comment Date: 5 p.m. Eastern Time on November 19, 2004.

33. PJM Interconnection, L.L.C.

[Docket No. ER05-124-000]

Take notice that on October 29, 2004, PJM Interconnection, L.L.C. (PJM) submitted amendments to Schedule 2 of the PJM Open Access Transmission Tariff (PJM Tariff) to incorporate the revenue requirements for Reactive Support and Voltage Control for Generation Sources Service (Reactive Power) of PPL University Park (PPL-UP), Lower Mount Bethel Energy, LLC (Lower Mount Bethel), Reliant Energy Aurora, LP (Aurora), Big Sandy Peaker Plant, LLC (Big Sandy), Wolf Hills Energy, LLC (Wolf Hills), Rolling Hills Generating, L.L.C. (Rolling Hills), Twelvepole Creek, LLC (Twelvepole Creek), and Reliant Energy Seward, LLC (Seward).

PJM states that copies of this filing have been served on all PJM members, including PPL-UP, Lower Mount Bethel, Aurora, Big Sandy, Wolf Hills, Rolling Hills, Twelvepole Creek, and Seward and each state electric utility regulatory commission in the PJM region.

Comment Date: 5 p.m. Eastern Time on November 19, 2004.

34. Pacific Gas and Electric Company

[Docket No. ER05-125-000]

Take notice that on October 29, 2004, Pacific Gas and Electric Company (PG&E) submitted an informational filing under its Reliability Must-Run Service Agreements with the California Independent System Operator Corporation (ISO) for Helms Power Plant (PG&E First Revised Rate Schedule FERC No. 207), Humboldt Power Plant (PG&E First Revised Rate Schedule FERC No. 208), Hunters Point Power Plant (PG&E First Revised Rate Schedule FERC No. 209), San Joaquin Power Plant (PG&E First Revised Rate Schedule FERC No. 211) and Kings River Watershed (PG&E Rate Schedule FERC No. 226).

PG&E states that copies of PG&E's filing have been served upon the ISO, the California Electricity Oversight Board and the California Public Utilities Commission.

Comment Date: 5 p.m. Eastern Time on November 19, 2004.

35. Entergy Services, Inc.

[Docket No. ER05-127-000]

Take notice that on October 29, 2004, Entergy Services, Inc. (ESI), on behalf of Entergy Louisiana, Inc. (ELI) as purchaser and Entergy Gulf States, Inc. (EGS) as seller, filed an amendment to the master power purchase and sale agreement between ELI and EGS. ESI requests an effective date of January 1, 2005.

ESI states that copies of this filing were served on the affected state utility commissions and members of the official service list.

Comment Date: 5 p.m. Eastern Time on November 19, 2004.

36. Duke Energy South Bay, LLC

[Docket No. ER05-128-000]

Take notice that on October 29, 2004, Duke Energy South Bay, LLC (DESB) submitted for filing revisions to certain Reliability Must-Run Rate Schedules in its Reliability Must Run Agreement (RMR) with the California Independent System Operator Corporation. DESB also submitted an informational filing detailing and supporting the proposed changes to its Annual Fixed Revenue Requirements under its RMR Agreement.

Comment Date: 5 p.m. Eastern Time on November 19, 2004.

37. PJM Interconnection, L.L.C.

[Docket Nos. ER05-157-000, ER05-158-000, ER05-159-000, ER05-160-000, ER05-161-000, and ER05-162-000]

Take notice that on October 29, 2004, PJM Interconnection, L.L.C. (PJM) tendered for filing six agreements for network integration transmission service (Service Agreements) under the PJM open access transmission tariff (PJM Tariff). PJM states that the agreements, each of which has been executed by the customer, are with Blue Ridge Power Agency, Inc., Central Virginia Electric Cooperative, the City of Dowagiac, Michigan, the City of Sturgis, Michigan, and Ormet Primary Aluminum Corp. (collectively the Parties). PJM requests an effective date of October 1, 2004.

PJM states that a copy of this filing has been served upon each of the Parties, as well as the affected state commissions.

Comment Date: 5 p.m. Eastern Time on November 19, 2004.

38. ISO New England Inc., et al.; Bangor Hydro-Electric Company, Central Maine Power Company, New England Power Company, Northeast Utilities Service Company, NSTAR Electric & Gas Corporation, The United Illuminating Company and Vermont Electric Power Company, Inc.; The Consumers of New England v. New England Power Pool

[Docket Nos. RT04-2-005, ER04-116-005, ER04-157-008, and EL01-39-005]

Take notice that on October 29, 2004, ISO New England Inc., (NEPOOL) and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc. submitted a report regarding compliance with paragraph 95 of the Commission's order issued March 24, 2004, 106 FERC ¶61,280 (2004).

NEPOOL states that copies of said filing have been served upon all parties to this proceeding, upon all NEPOOL Participants (electronically), non-Participant Transmission Customers, and the governors and regulatory agencies of the six New England states.

Comment Date: 5 p.m. Eastern Time on November 19, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E4-3133 Filed 11-10-04; 8:45 am]

BILLING CODE 6717-01-P